FEDERAL EMERGENCY MANAGEMENT AGENCY

44 CFR Part 67

Final Flood Elevation Determinations

AGENCY: Federal Emergency Management Agency (FEMA).

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
HAWAII
Maui County, (FEMA Docket No. B-7421)
Unnamed Stream at Kuau Point:
Approximately 720 feet downstream of Hana Highway | *14
Approximately 750 feet upstream of Hana Highway | *29
Maps are available for inspection at the Department of Planning, 250 South High Street, Wailuku, Hawaii.
WASHINGTON
Skokomish Indian Tribe, (FEMA Docket No. B-7421)
Skokomish River:
Just downstream of State Route 106 | *16
Approximately 3,000 feet upstream of U.S. Route 101 | *31
Maps are available for inspection at the Natural Resources Office, North 541 Tribal Center Road, Shelton, Washington.

Source of flooding and location | #Depth in feet above ground. *Elevation in feet (NGVD) | Communities affected
CALIFORNIA
FEMA Docket No. (B-7420)
Alvarado Creek:
At Pennsylvania Lane ext., approximately 1,000 feet downstream of 70th street | *379 | City of La Mesa, City of San Diego
Approximately 2000 feet downstream of Lake Murray Boulevard | *407
Approximately 900 feet downstream of Comanche Boulevard | *425
Approximately 300 feet upstream of Fletcher Parkway | *454
ADDRESSES:
City of La Mesa:
Maps are available for inspection at the Department of Public Works Community Development, City Hall, 8130 Allison Avenue, La Mesa, California.
City of San Diego:
Maps are available for inspection at the City Development Services Center, 1222 1st Avenue, 3rd Floor, San Diego, California.
NEW MEXICO
FEMA Docket No. (B-7421)
Animas River:
Approximately 1,300 feet downstream of Miller Avenue | +5,276 | City of Farmington, San Juan County.
Just upstream of Broadway Street | +5,304
Approximately 4,300 feet upstream of Browning Parkway | +5,361
San Juan River:
Approximately 8,600 feet downstream of Route 371 | +5,223
Approximately 2,200 feet downstream of Route 371 | +5,242
Wyper Arroyo:
Approximately 100 feet upstream of U.S. Highway 550 | +5,499
Just upstream of confluence of Wyper Arroyo Tributary | +5,559
Approximately 3,800 feet upstream of confluence of Wyper Arroyo Tributary | +5,668
Wyper Arroyo Tributary:
Just upstream of confluence of Wyper Arroyo | +5,559
Approximately 3,450 feet upstream of confluence with Wyper Arroyo | +5,662
Carl Arroyo:
Approximately 1,700 feet downstream of U.S. Route 550 | +5,451
Just upstream of Winnifred Drive | +5,535
Approximately 3,900 feet upstream of Winnifred Drive | +5,635
Hood Arroyo:
Approximately 1,800 feet downstream of Hubbard Street | +5,403
Just upstream of Pinon Hills Blvd | +5,530
Approximately 850 feet upstream of Hogan Avenue | +5,714
Hood Arroyo Tributary:
Just upstream of Hogan Avenue | +5,640
Approximately 4,200 feet upstream of Hogan Avenue | +5,820
Porter Arroyo:
Approximately 1,300 feet downstream of Windsor Drive | +5,509
Just upstream of confluence of Porter Arroyo Tributary C | +5,622
Approximately 4,200 feet upstream of North College Road | +5,796
Porter Arroyo Tributary C:
At confluence with Porter Arroyo | +5.620
Approximately 1,300 feet upstream of confluence with Porter Arroyo | +5,654
Porter Arroyo Tributary B:
At confluence with Porter Arroyo | +5,645
Approximately 1,100 feet upstream of confluence with Porter Arroyo | +5,682
Porter Arroyo Tributary A:
At confluence with Porter Arroyo near North College Road | +5,670
Approximately 2,100 feet upstream of confluence with Porter Arroyo | +5,752
Butler Arroyo:
Just upstream of 30th Street | +5,508
Approximately 4,000 feet upstream of 30th Street | +5,606
Dustin Arroyo:
Approximately 400 feet downstream of 30th Street | +5,489
Approximately 700 feet upstream of Cerrillos Drive | +5,667
Farmers Mutual Ditch:
Approximately 300 feet downstream of Westland Park Drive | +5,227
Approximately 1,500 feet upstream of Westland Park Drive, near its divergence from San Juan River | +5,236
Westland Park Drive Runoff:
Approximately 800 feet downstream of Westland Park Drive | +5,225
Approximately 150 feet upstream of Westland Park Drive | +5,235
ADDRESSES:
City of Farmington:
Maps are available for inspection at City Hall, 800 Municipal Drive, Farmington, New Mexico.
San Juan County:
Maps are available for inspection at the Office of Building Inspector, 100 South Oliver, Aztec, New Mexico.
OREGON
FEMA Docket No. (B-7421)
Wagner Creek:
Just upstream of Rapp Road | *1,654 | Jackson County
Approximately 1,100 feet upstream of a Private Culvert in the Stream Valley just south of the junction of Ashland Mine Road and Wagner Creek Road | *2,201
At confluence with Bear Creek | *1,562 | City of Talent
Just upstream of Rouge Valley Highway 99 | *1,593
Just downstream of Rapp Road | *1,652
ADDRESSES:
Jackson County:
Maps are available for inspection at the Roads, Parks and Planning Services, 10 South Oakdale Avenue, Medford, Oregon.
City of Talent:
Maps are available for inspection at City Hall, 204 East Main Street, Talent Oregon.
UTAH
FEMA Docket No. (B-7420)
Willow Creek (West):
Just upstream of 11400 South Street | *4,362 | City of Draper
Approximately 100 feet upstream of 12300 South Street | *4,409
Approximately 1,250 feet upstream of 150 East Road | *4,441
| *2,201
Midas Creek:
At confluence with Jordan River | *4,322 | Salt Lake County.
Approximately 250 feet upstream of 3600 West Street | *4,603 | (Uninc. Areas), City of Riverton, City of South Jordan
ADDRESSES:
Salt Lake County (Unincorporated. Areas):
Maps are available for inspection at 2001 South State Street, Suite N3300, Salt Lake City, Utah.
City of Draper:
Maps are available for inspection at the Engineer Department, 12441 South 900 East, Draper, Utah.
City of Riverton:
Maps are available for inspection at City Hall, 949 East 12400 South Street, Riverton, Utah.
City of South Jordan:
Maps are available for inspection at 10996 South Redwood Road, South Jordan, Utah.

(Catalog of Federal Domestic Assistance No. 83.100, “Flood Insurance.”)
Dated: December 19, 2001.
Robert F. Shea,
Acting Administrator, Federal Insurance and Mitigation Administration.

[FR Doc. 02-321 Filed 1-4-02; 8:45 am]

BILLING CODE 6718-04-P